DEPARTMENT OF ENERGY

Federal Energy Regulatory Commission

[Project No. 13806-001]

5440 Hydro, Inc.: Notice of Intent To File License Application, Filing of Pre-Application Document, and Approving Use of the Traditional Licensing Process

a. Type of Filing: Notice of Intent to File License Application and Request to Use the Traditional Licensing Process.

b. Project No.: 13806-001.

c. Date Filed: January 17, 2012.

d. Submitted By: 5440 Hydro, Inc.

e. Name of Project: Brooklyn Dam Hydroelectric Project.

f. Location: On the Upper Ammonoosuc River, near the Town of Groveton in Coos County, New Hampshire. No federal lands are occupied by the project works or located within the project boundary.

g. Filed Pursuant to: 18 CFR 5.3 of the Commission's regulations.

h. Potential Applicant Contact: Lutz Loegters, 5440 Hydro, Inc., 717 Atlantic Avenue, Suite 1A, Boston, MA 02111; 617-933-7200; email at lutz@ampersandenergy.com.

i. FERC Contact: John Ramer at (202) 502-8969; or email at john.ramer@ferc.gov.

j. 5440 Hydro, Inc. filed its request to use the Traditional Licensing Process on January 17, 2012. 5440 Hydro, Inc. provided public notice of its request on January 17, 2012. In a letter dated March 13, 2012, the Acting Director of the Division of Hydropower Licensing approved 5440 Hydro, Inc.'s request to use the Traditional Licensing Process.

k. With this notice, we are initiating informal consultation with: (a) the U.S. Fish and Wildlife Service and NOAA Fisheries under section 7 of the Endangered Species Act and the joint agency regulations thereunder at 50 CFR, part 402; (b) NOAA Fisheries under section 305(b) of the Magnuson-Stevens Fishery Conservation and Management Act and implementing regulations at 50 CFR 600.920; and (c) the New Hampshire State Historic Preservation Officer, as required by section 106, National Historical Preservation Act, and the implementing regulations of the Advisory Council on Historic Preservation at 36 CFR 800.2.

l. 5440 Hydro, Inc. filed a Pre-Application Document (PAD; including a proposed process plan and schedule) with the Commission, pursuant to 18 CFR 5.6 of the Commission's regulations.

m. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, or for TTY, (202) 502-8659. A copy is also available for inspection and reproduction at the address in paragraph h.

n. Register online at http://www.ferc.gov/docs-filing/esubscription.asp to be notified via email of new filing and issuances related to this or other pending projects. For assistance, contact FERC Online Support.

Dated: March 13, 2012.
Kimberly D. Bose,
Secretary.

[FR Doc. 2012-6523 Filed 3-16-12; 8:45 am]

BILLING CODE 6717-01-P